DEPARTMENT OF COMMERCE

National Oceanic and Atmospheric Administration

[RTID 0648-XA046]

North Pacific Fishery Management Council; Public Meeting

AGENCY: National Marine Fisheries Service (NMFS), National Oceanic and Atmospheric Administration (NOAA), Commerce.

ACTION: Notice of public meeting.

SUMMARY: The North Pacific Fishery Management Council (Council) Bering Sea Fishery Ecosystem Plan Team will meet March 3, 2020 through March 5, 2020.

DATES: The meeting will be held on Tuesday, March 3, 2020, from 9 a.m. to 5 p.m., March 4, 2020, from 9 a.m. to 5 p.m., and on March 5, 2020, from 9 a.m. to 1 p.m., Pacific Standard Time.

ADDRESSES: The meeting will be held in the MML Room (2039), March 3-4, 2020 and in the Traynor Room (2076) on March 5, 2020 at the Alaska Fisheries Science Center, 7600 Sand Point Way NE, Seattle, WA 98115. Teleconference number is (907) 271-2896.

Council address: North Pacific Fishery Management Council, 605 W 4th Ave., Suite 306, Anchorage, AK 99501-2252; telephone: (907) 271-2809.

FOR FURTHER INFORMATION CONTACT: Diana Evans, Council staff; telephone: (907)-271-2815.

SUPPLEMENTARY INFORMATION:

Agenda

Tuesday, March 3, 2020 Through Thursday, March 5, 2020

The agenda will include (a) update on action modules; (b) workplans for future action modules; (c) ecosystem health report card progress; (d) outreach and communication update; (e) research priorities; and (f) other business. The agenda is subject to change, and the latest version will be posted at https://meetings.npfmc.org/Meeting/Details/1323 prior to the meeting, along with meeting materials.

Public Comment

Public comment letters will be accepted and should be submitted either electronically to https://meetings.npfmc.org/Meeting/Details/1323 or through the mail: North Pacific Fishery Management Council, 605 W 4th Ave., Suite 306, Anchorage, AK 99501-2252.

Special Accommodations

These meetings are physically accessible to people with disabilities. Requests for sign language interpretation or other auxiliary aids should be directed to Shannon Gleason at 907-271-2809 at least 7 working days prior to the meeting date.

Authority: 16 U.S.C. 1801 et seq.

Dated: February 18, 2020.
Tracey L. Thompson,
Acting Deputy Director, Office of Sustainable Fisheries, National Marine Fisheries Service.

[FR Doc. 2020-03491 Filed 2-20-20; 8:45 am]

BILLING CODE 3510-22-P